DEPARTMENT OF HEALTH AND HUMAN SERVICES

[Document Identifier OS-0990-New]

Agency Emergency Information Collection Clearance Request for Public Comment

AGENCY: Office of the Secretary, HHS.

ACTION: Notice.

In compliance with the requirement of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherrette.funn@hhs.gov, or call the Reports Clearance Office on (202) 795-7714. Written comments and recommendations for the proposed information collections must be directed to the OS Paperwork Clearance Officer at the above email address within 7-days.

Proposed Project: COVID-19 by PCR Requisition Form.

OMB No. 0990-NEW.

Emergency Information Collection Clearance Request

Office: HHS, Office of the Assistant Secretary for Health, Office of the Surgeon General.

Abstract: The COVID-19 by PCR Requisition Form will be used to collect information from individuals who are participating in the federally supported, state managed, locally executed CBTS program to obtain COVID-19 laboratory testing. The COVID-19 by PCR Requisition Form will be used by approximately 200,000 individuals. The Lab Requisition form includes the ordering physician information, the laboratory account information, the date of collection, the time of collection; the individual's last name, first name, date of birth, gender, language, race, ethnicity, address, phone number, insurance carrier name, and whether the individual has provided informed consent and received a copy of the privacy notice. The information from the Lab Requisition form is shared with the ordering provider, the contracted laboratory companies, the cognizant state health department, and the contracted call center. Aggregate data is shared with HHS and FEMA.

Estimated Annualized Burden Table
Type of respondent | Number of respondents | Number of responses per respondent | Average burden hours per response | Total burden hours
Individuals receiving COVID-19 testing | 200,000 | 1 | .1 | 20,000

Sherrette A. Funn,
Office of the Secretary, Paperwork Reduction Act Reports Clearance Officer.

[FR Doc. 2020-09039 Filed 4-28-20; 8:45 am]

BILLING CODE 4150-36-P